DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material regulations, notice is hereby given that the Office of Hazardous Materials Safety has received the application described herein.

DATES: Comments must be received on or before December 22, 2022.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on November 10, 2022.
Donald P. Burger,
Chief, General Approvals and Permits Branch.

Application No. | Applicant | Regulation(s) affected | Nature of the special permits thereof
Special Permits Data
21459-N | Hopkins Holdings LLC | 173.306(a)(1) | To authorize the transportation in commerce of 2P receptacles, with capacities exceeding 4 fluid ounces, containing butane as limited quantities. (modes 1, 2)
21461-N | Zhejiang Chumboon Iron-Printing& Tin-Making Co., Ltd | 173.304(d), 173.306(i)(1), 173.167 | To authorize the manufacture, marking, sale and use of a non-refillable, non-DOT specification inside metal container, similar to a DOT 2Q, that contain liquefied and refrigerant gases rather than aerosols. (modes 1, 2, 3, 4)
21463-N | Mission Systems Orchard Park Inc | 173.302a(a)(1) | To authorize the manufacture, mark, sale, and use of non-DOT specification cylinders similar to ISO 11119-2. (modes 1, 2, 3, 4)
21466-N | KMG Electronic Chemicals, Inc | 172.102(c)(4) | To authorize the transportation in commerce of nitric acid in IBCs that are authorized for two years from the date of first fill. (mode 1)
21467-N | General Motors LLC | 172.101(j) | To authorize the transportation in commerce of lithium ion batteries exceeding 35 kg net weight aboard cargo-only aircraft. (mode 4)
21469-N | Romeo Systems, Inc | 172.101(j) | To authorize the transportation in commerce of lithium batteries exceeding 35 kg by cargo-only aircraft. (mode 4)
21474-N | Yiwu Bluefire Camping Industry Co., Ltd | 173.304a(a)(1), 173.304a(d) | To authorize the manufacture, marking, sale and use of a non-DOT specification non-refillable inside container conforming with all regulations applicable to a DOT specification 2P inner non-refillable metal receptacle except for size, testing requirements, and marking. (modes 1, 2, 3)

[FR Doc. 2022-25329 Filed 11-21-22; 8:45 am]

BILLING CODE 4910-60-P